DEPARTMENT OF ENERGY

Federal Energy Regulatory Commission

[Docket No. RP95-408-063]

Columbia Gas Transmission Corporation; Notice of Sharing Profit Report

May 13, 2005.

Take notice that on May 10, 2005, Columbia Gas Transmission Corporation (Columbia) filed to report on the sharing with its customers of a portion of the profits from the sale of certain base gas as provided in Columbia's Docket No. RP95-408 rate case settlement. See Stipulation II, Article IV, sections A through E, in Docket No. RP95-408 approved at Columbia Gas Transmission Corp., 79 FERC ¶ 61,044 (1997). Sales of base gas have generated additional profits of $8,389,803 (above a $41.5 million threshold) requiring a sharing of 50 percent of the excess profits with customers in accordance with Stipulation II, Article IV, section C.

Columbia states that $4,244,796, inclusive of interest, has been allocated to affected customers and credited to their March invoices, and that these credits remain subject to Commission acceptance of this filing.

Columbia states that copies of the filing have been served on its affected customers, affected state commission's and those parties on the official service list in this proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC.

There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on May 20, 2005.

Magalie R. Salas,
Secretary.

[FR Doc. E5-2554 Filed 5-19-05; 8:45 am]

BILLING CODE 6717-01-P